DEPARTMENT OF COMMERCE

National Oceanic and Atmospheric Administration

Federal Consistency Appeal by the Bureau of Indian Affairs and the Big Lagoon Rancheria From an Objection by the California Coastal Commission

AGENCY: National Oceanic and Atmospheric Administration (NOAA), Department of Commerce (Commerce).

ACTION: Notice of appeal and request for comments.

SUMMARY: This announcement provides notice that the Bureau of Indian Affairs (BIA) and the Big Lagoon Rancheria (Tribe) have jointly filed an administrative appeal with the Department of Commerce asking that the Secretary override the California Coastal Commission's (Commission) objection to BIA's proposed acquisition of approximately 5 acres of land in Humboldt County, California, into trust status for the Tribe. The land is currently owned in fee by the Tribe and is located in the Big Lagoon area, approximately a quarter mile from the current boundary of the Big Lagoon Rancheria trust property, at the southwest intersection of Highway 101 and Big Lagoon Park Road, south of Big Lagoon, Humboldt County, California. The legal description of the land is parcel APN 517-281-004 in Lot 4 as shown on Tract No. 420, on file in the Office of the Humboldt County Recorder in Book 21 of Maps, pages 18 and 19.

DATES: Public and Federal agency comments on the appeal are due within 30 days of the publication of this Notice.

ADDRESSES: Comments should be sent to Odin Smith, Attorney-Advisor, National Oceanic and Atmospheric Administration, U.S. Department of Commerce, 1305 East-West Highway, Room 6111, Silver Spring, MD 20910. Materials from the appeal record will be available at the NOAA Office of the General Counsel for Ocean Services.

FOR FURTHER INFORMATION CONTACT: Odin Smith, Attorney-Advisor, NOAA Office of the General Counsel, 301-713-7392.

SUPPLEMENTARY INFORMATION:

I. Notice of Appeal

BIA and the Tribe have jointly filed a notice of appeal with the Secretary of Commerce pursuant to the Coastal Zone Management Act of 1972 (CZMA), 16 U.S.C. 1451 et seq., and implementing regulations found at 15 CFR part 930, subpart H. BIA and the Tribe appeal an objection, filed by the Commission, to a consistency determination prepared by BIA related to the proposed acquisition by BIA of approximately 5 acres of land in Humboldt County, California, into trust status for the Tribe for future planned tribal housing development.

The Appellants request that the Secretary override the State's objection on grounds that the project is consistent with the objectives or purposes of the CZMA. To make the determination that the proposed activity is “consistent with the objectives or purposes” of the CZMA, the Secretary must find that: (1) The proposed activity furthers the national interest as articulated in sections 302 or 303 of the CZMA, in a significant or substantial manner; (2) the adverse effects of the proposed activity do not outweigh its contribution to the national interest, when those effects are considered separately or cumulatively; and (3) no reasonable alternative is available that would permit the activity to be conducted in a manner consistent with enforceable policies of California's coastal management program. 15 CFR 930.121 (2005), as amended, 71 FR 787, 831 (Jan. 5, 2006).

II. Public and Federal Agency Comments

Written comments are invited on any of the issues the Secretary must consider in deciding this appeal. Comments must be received within 30 days of the publication of this notice, and may be submitted to Odin Smith, Attorney-Advisor, NOAA Office of the General Counsel for Ocean Services, National Oceanic and Atmospheric Administration, U.S. Department of Commerce, 1305 East-West Highway, Room 6111, Silver Spring, MD 20910. Comments will be made available to Appellants and the State.

III. Appeal Documents

NOAA intends to provide the public with access to all materials and related documents comprising the appeal record during business hours, at the NOAA Office of the General Counsel for Ocean Services.

For additional information about this appeal contact Odin Smith, 301-713-7392.

Dated: February 15, 2007.
Joel La Bissonniere,
Assistant General Counsel for Ocean Services.

[FR Doc. 07-768 Filed 2-20-07; 8:45 am]

BILLING CODE 3510-08-M